FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Applications for Employment with the Board of Governors of the Federal Reserve System (FR 28; OMB No. 7100-0181).

DATES: The revisions are effective February 11, 2026.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 28.

Final Approval Under OMB Delegated Authority of the Extension for Three Years, With Revision, of the Following Information Collections

Collection title: Applications for Employment with the Board of Governors of the Federal Reserve System.

Collection identifier: FR 28.

OMB control number: 7100-0181.

General description of collection: The forms that comprise the FR 28 are used to manage the Board's hiring process by collecting needed information on candidates. The FR 28a (Application for Employment), is used to examine, rate, or assess the applicant's qualifications, and to contact the applicant to arrange an interview. The FR 28a can be completed either online in two parts (the Initial Application portion and, if selected for an interview, the Interview Selection portion) or in its entirety as a PDF. The FR 28s (Applicant's Voluntary Self-Identification) is used for equal employment opportunity recordkeeping, reporting, and self-evaluation of hiring practices. The FR 28i (Research Assistant Application) is a supplement to the FR 28a and is used to collect contact information for an application for employment as a Research Assistant (RA), including to help match an RA candidate's interests with the different research areas at the Board and determine the applicants' data analysis and programming experience. The FR 28c (Pre-Hire Conflict of Interest Screening Form) is used to ensure advance knowledge of a prospective employee's potential conflicts of interest.

Frequency: Event-generated.

Respondents: Individuals seeking employment with the Board.

Total estimated number of respondents: FR 28a (Initial Application), 32,600; FR 28a (Interview Selection), 1,769; FR 28a (PDF), 238; FR 28s, 32,838; FR 28i, 330; FR 28c, 2007; FR 28r, 650.

Estimated average hours per response: FR 28a (Initial Application), 0.48; FR 28a (Interview Selection), 1.51; FR 28a (PDF), 1.69; FR 28s, 0.02; FR 28i, 0.91; FR 28c, 0.62; FR 28r, 0.34.

Total estimated change in burden: −62.

Total estimated annual burden hours: 21,143.

Current actions: On July 16, 2025, the Board published a notice in the Federal Register (90 FR 32009) requesting public comment for 60 days on the extension, with revision, of the FR 28. The Board proposed to revise the FR 28a by removing one data field. The Board proposed to revise the FR 28s by changing one data field. The Board proposed to revise the FR 28i by adding eight new data fields and removing one data field, and to revise the FR 28c by adding a new section to the form and updating the language of several of the questions for readability and to include questions about financial assets not previously contemplated due to technological changes that have occurred. Lastly, the Board proposed to revise the FR 28 clearance to include a new Reference Check Form (FR 28r). The comment period for this notice expired on September 15, 2025. The Board did not receive any comments. The revisions will be implemented as proposed.

Board of Governors of the Federal Reserve System, January 8, 2026.
Erin M. Cayce,
Assistant Secretary of the Board.

[FR Doc. 2026-00387 Filed 1-9-26; 8:45 am]

BILLING CODE 6210-01-P